DEPARTMENT OF ENERGY

Federal Energy Regulatory Commission

[Project No. 13563-002]

Juneau Hydropower, Inc.; Notice of Successive Preliminary Permit Application Accepted for Filing and Soliciting Comments, Motions To Intervene, and Competing Applications

On December 3, 2012, Juneau Hydropower, Inc., filed an application for a successive preliminary permit, pursuant to section 4(f) of the Federal Power Act (FPA), proposing to study the feasibility of the Sweetheart Lake Project located on Lower Sweetheart Lake and Sweetheart Creek in Juneau, Alaska. The sole purpose of a preliminary permit, if issued, is to grant the permit holder priority to file a license application during the permit term. A preliminary permit does not authorize the permit holder to perform any land-disturbing activities or otherwise enter upon lands or waters owned by others without the owners' express permission.

The proposed project would consist of the following facilities: (1) A new 275-foot-long, 105-foot-high concrete and rock face dam, including project intake facilities and a 125-foot-wide overflow spillway, constructed at the natural outlet of Lower Sweetheart Lake; (2) the existing Lower Sweetheart Lake, raised to a surface elevation of 628 feet above mean sea level, with a surface area of 1,701.5 acres and an active storage capacity of 94,069 acre-feet at the normal maximum water elevation; (3) a new 500-foot-long, 10-foot-diameter stream diversion tunnel that would be converted to reservoir outlet works after project construction; (4) a new 9,595-foot-long, 12-foot-diameter penstock diverting flow from the project intake to the powerhouse; (5) a new powerhouse containing three new 6.6-megawatt (MW), Francis generating units having a total installed capacity of 19.8 MW; (6) a tailrace consisting of a new 76-foot-wide to 22-foot-wide, 75-foot-long open afterbay; a new 225-foot-long, 12-foot-diameter tunnel extending from the afterbay to an outlet structure on a tributary to Sweetheart Creek; and an existing tributary stream channel, modified to a 100-foot-long, 35-foot-wide channel that will flow into Sweetheart Creek; (7) new marine access facilities, including a dual-height marine ramp, floating docks for seaplane and boat access, and a staging area adjacent to the docks; (8) a new switchyard adjacent to the powerhouse; (9) a new 8.69-mile-long, 138-kilovolt transmission line, consisting of buried, submarine, and overhead segments; (10) a new 4,400-foot-long access road; and (11) appurtenant facilities. The proposed Sweetheart Lake Project would have an average annual generation of 111 gigawatt-hours.

Applicant Contact: Duff Mitchell, Business Manager, Juneau Hydropower, Inc. P.O. Box 22775, Juneau, AK 99802; email: duff.mitchell@juneauhydro.com; phone: (907) 789-2775.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13563) in the docket number field to access the document. For assistance, contact FERC Online Support.

Dated: January 9, 2013.
Kimberly D. Bose,
Secretary.

[FR Doc. 2013-00643 Filed 1-14-13; 8:45 am]

BILLING CODE 6717-01-P